DEPARTMENT OF COMMERCE

International Trade Administration

[C-570-923]

Raw Flexible Magnets From the People's Republic of China: Rescission of Countervailing Duty Administrative Review; 2016

AGENCY: Enforcement and Compliance, International Trade Administrative, Department of Commerce.

SUMMARY: The Department of Commerce (Commerce) is rescinding the administrative review of the countervailing duty order on raw flexible magnets from the People's Republic of China (China) covering the period January 1, 2016, through December 31, 2016.

DATES: Effective February 5, 2018.

FOR FURTHER INFORMATION CONTACT: Patricia Tran, AD/CVD Operations, Office III, Enforcement & Compliance, International Trade Administration, Department of Commerce, 1401 Constitution Avenue NW, Washington, DC 20230; telephone: (202) 482-1503.

SUPPLEMENTARY INFORMATION:

Background

On November 13, 2017, based on a timely request by Qwik Picz Photo Booth, LLC (Qwik Picz), Commerce published in the Federal Register a notice of initiation of an administrative review of the countervailing duty order on raw flexible magnets from China with respect to two companies, SOM International Limited and Wenzhou Haibao Printing Co., LTD.¹ On January 16, 2018, pursuant to 19 CFR 351.213(d)(1), Qwik Picz timely withdrew its request for an administrative review of both companies.²

¹ See Initiation of Antidumping and Countervailing Duty Administrative Reviews, 82 FR 52268 (November 13, 2017).

² See Letter from Qwik Picz, regarding, “Raw Flexible Magnets from the PRC; C-570-923; Withdraw Request for Review by Qwik Picz Photo Booth, LLC,” dated January 16, 2018.

Rescission of Administrative Review

Pursuant to 19 CFR 351.213(d)(1), Commerce will rescind an administrative review, in whole or in part, if the party that requested the review withdraws the request within 90 days of the date of publication of the notice of initiation of the requested review. Qwik Picz withdrew its review request by the 90-day deadline, and no other parties requested an administrative review of this order. Therefore, we are rescinding the administrative review of the countervailing duty order on raw flexible magnets from China covering the period January 1, 2016, to December 31, 2016, in its entirety.

Assessment

Commerce will instruct U.S. Customs and Border Protection (CBP) to assess countervailing duties on all appropriate entries. Because Commerce is rescinding this administrative review in its entirety, the entries to which this administrative review pertains shall be assessed countervailing duties that are equal to the cash deposits of estimated countervailing duties required at the time of entry, or withdrawal from warehouse, for consumption, in accordance with 19 CFR 351.212(c)(1)(i). Commerce intends to issue appropriate assessment instructions to CBP within 15 days after the publication of this notice in the Federal Register.

Administrative Protective Orders

This notice also serves as the only reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a)(1) and 777(i)(1) of the Tariff Act of 1930, as amended, and 19 CFR 351.213(d)(4).

Dated: January 30, 2018.
James Maeder,
Senior Director performing the duties of Deputy Assistant Secretary for Antidumping and Countervailing Duty Operations.

[FR Doc. 2018-02210 Filed 2-2-18; 8:45 am]

BILLING CODE 3510-DS-P